DEPARTMENT OF COMMERCE

National Oceanic and Atmospheric Administration

RIN 0648-XG857

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Acting Assistant Regional Administrator for Sustainable Fisheries, Greater Atlantic Region, NMFS, has made a preliminary determination that an Exempted Fishing Permit application from the Coonamessett Farm Foundation contains all of the required information and warrants further consideration. This Exempted Fishing Permit would allow a participating party/charter fishing vessel to temporarily possess undersized black sea bass for tagging and biological sampling purposes. Regulations under the Magnuson-Stevens Fishery Conservation and Management Act require publication of this notification to provide interested parties the opportunity to comment on applications for proposed Exempted Fishing Permits.

DATES: Comments must be received on or before April 17, 2019.

ADDRESSES: You may submit written comments by any of the following methods:

• Email: NMFS.GAR.EFP@noaa.gov. Include in the subject line “Comments on CFF Black Sea Bass Tagging EFP.”

• Mail: Michael Pentony, Regional Administrator, NMFS, Greater Atlantic Regional Office, 55 Great Republic Drive, Gloucester, MA 01930. Mark the outside of the envelope “Comments on CFF Black Sea Bass Tagging EFP.”

FOR FURTHER INFORMATION CONTACT: Cynthia Ferrio, Fishery Management Specialist, 978-281-9180, Cynthia.Ferrio@noaa.gov.

SUPPLEMENTARY INFORMATION: The Coonamessett Farm Foundation (CFF) submitted a complete application for an Exempted Fishing Permit (EFP) on February 27, 2019, to conduct fishing activities that the regulations would otherwise restrict. The EFP would authorize a participating vessel to temporarily possess undersize black sea bass while conducting tagging procedures and biological sampling. This research is designed to tag and release black sea bass to study movement patterns, habitat usage, and migratory cycles for up to the 2-year battery life of the telemetry tags.

If approved, this research would be conducted over the course of four 3-day long sampling trips in April and August of 2019 and 2020, for a total of 12 research fishing days. All fishing would be conducted using rod and reel gear on a contracted charter vessel in state and Federal waters off the coasts of Maryland, Virginia, and North Carolina. The exact fishing locations would be determined by the vessel captain, but would be recorded via GPS.

All black sea bass caught on directed research trips under this EFP would be placed in a live well, and the length and sex of each individual would be recorded before tagging. Each black sea bass would then be tagged with an internal anchor spaghetti tag, allowed to recover from the procedure, assessed for barotrauma, and released back into the water using a pressure-activated recompression descending release device. All non-target species would be returned to the water as quickly as possible, and no catch would be retained for sale. CFF personnel would accompany all trips and oversee these research activities.

In addition to the spaghetti tags, 92 black sea bass are expected to be tagged with additional specialty tags/equipment through this project, with the type of specialized tag used and data gathered depending on the size and vigor of each fish. A total of 48 fish will receive acoustic transmitters to record temperature, 40 slightly larger fish (greater than 25 cm) will receive an additional archival tag that records temperature, depth, and conductivity, and four of the largest fish (greater than 46 cm) will be affixed with satellite tags. The satellite tags measure temperature, depth, light level, and geolocation.

CFF is requesting temporary exemptions from the recreational possession limit and minimum size possession restrictions in the Black Sea Bass Fishery Management Plan found at 50 CFR 648.145(a) and § 648.147(b) to sample and tag all black sea bass during these selected fishing trips. Funding for this research has been awarded under a NOAA Chesapeake Bay Fisheries Research grant (NA18NMF4570257).

If approved, CFF may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 28, 2019.
Alan D. Risenhoover,
Director, Office of Sustainable Fisheries, National Marine Fisheries Service.

[FR Doc. 2019-06368 Filed 4-1-19; 8:45 am]

BILLING CODE 3510-22-P